SMALL BUSINESS ADMINISTRATION

[Declaration of Disaster #3447]

State of Indiana

As a result of the President's major disaster declaration on September 25, 2002, I find that Bartholomew, Blackford, Brown, Daviess, Decatur, Delaware, Fayette, Franklin, Gibson, Grant, Greene, Hamilton, Hancock, Hendricks, Henry, Jay, Johnson, Knox, Lawrence, Madison, Marion, Monroe, Morgan, Owen, Pike, Posey, Randolph, Rush, Shelby, Sullivan, Tipton and Vanderburgh in the State of Indiana constitute a disaster area due to damages caused by severe storms and tornadoes occurring on September 20, 2002. Applications for loans for physical damage as a result of this disaster may be filed until the close of business on November 25, 2002 and for economic injury until the close of business on June 25, 2003 at the address listed below or other locally announced locations:

U.S. Small Business Administration, Disaster Area 2 Office, One Baltimore Place, Suite 300, Atlanta, GA 30308.

In addition, applications for economic injury loans from small businesses located in the following contiguous counties may be filed until the specified date at the above location: Adams, Boone, Clay, Clinton, Dearborn, Dubois, Howard, Huntington, Jackson, Jennings, Martin, Miami, Montgomery, Orange, Putnam, Ripley, Union, Vigo, Wabash, Warrick, Washington, Wayne and Wells in the State of Indiana; Clark, Crawford, Gallatin, Lawrence, Wabash and White counties in the State of Illinois; Henderson and Union counties in the State of Kentucky; and Butler, Darke, Hamilton and Mercer counties in the State of Ohio.

The interest rates are:

| Percent
For Physical Damage:
Homeowners with credit available elsewhere | 6.625
Homeowners without credit available elsewhere | 3.312
Businesses with credit available elsewhere | 7.000
Businesses and non-profit organizations without credit available elsewhere | 3.500
Others (including non-profit organizations) with credit available elsewhere | 6.375
For Economic Injury:
Businesses and small agricultural cooperatives without credit available elsewhere | 3.500

The number assigned to this disaster for physical damage is 344711. For economic injury the number is 9R7600 for Indiana; 9R7700 for Illinois; 9R7800 for Kentucky; and 9R7900 for Ohio.

(Catalog of Federal Domestic Assistance Program Nos. 59002 and 59008)
Dated: September 26, 2002.
S. George Camp,
Acting Associate Administrator for Disaster Assistance.

[FR Doc. 02-24995 Filed 10-1-02; 8:45 am]

BILLING CODE 8025-01-P